DEPARTMENT OF ENERGY

Federal Energy Regulatory Commission

[Docket No. RM09-2-001]

Contract Reporting Requirements of Intrastate Natural Gas Companies; Notice of the Agenda for Form No. 549D; Technical Workshop

As noticed on March 22, 2011, in this docket the technical workshop on Form No. 549D required by Order No. 735-A will be scheduled for April 12, 2011. The present notice provides the Agenda for this technical workshop.

Those not able to attend in person may listen live to the workshop through a telephone bridge connection. Since a one-hour lunch break has been allocated during this workshop, interested people will need to hang up upon the announcement by the Moderator of the lunch break. If interested in the “Additional Question and Answer Period” scheduled for after lunch, callers need to call back in for that portion of the meeting.

The call-in information for the 9 a.m. to 12:15 p.m. portion of the workshop is:

• From within the DC area: 202-502-6888

• From outside the DC area: 1-877-857-1347

• Meeting ID Number: 2685

Callers may dial in 15 minutes before the start of the morning and afternoon sessions.

The after-lunch portion of the workshop is expected to run from 1:15 p.m. to 2 p.m., but may deviate depending upon the needs of the attendees. The call information for the after-lunch portion of the workshop is:

• From within the DC area: 202-502-6888

• From outside the DC area: 1-877-857-1347

• Meeting ID Number: 4734

For additional information, please contact James Sarikas at 202-502-6831 or James.Sarikas@ferc.gov of FERC's Office of Energy Market Regulation and Thomas Russo at 202-502-8792 or Thomas.Russo@ferc.gov of FERC's Office of Enforcement.

Dated: April 4, 2011.
Kimberly D. Bose,
Secretary.

Attachment: Workshop Agenda.

The Agenda for Form No. 549D Technical Workshop on April 12, 2011; Commission Meeting Room

9 a.m.-9:10 a.m. Opening Remarks

9:10 a.m.-9:30 a.m. Overview of Form No. 549D filing and Public Release of Data

9:30 a.m.-9:45 a.m. Completing and eFiling fillable Form No. 549D

9:45 a.m.-10:15 a.m. Questions and Answers Period on fillable Form No. 549D

10:15 a.m.-10:30 a.m. Break

10:30 a.m.-11:15 a.m. Using XML, Validation of Data and eFiling

11:15 a.m.-12:15 p.m. Questions and Answer Period on using XML

12:15 p.m.-1:15 p.m. Lunch

1:15 p.m.-1:45 p.m. Additional Question and Answer Period

1:45 p.m.-2 p.m. Closing Remarks

Note: All times are approximate. The workshop may end earlier depending on the number of questions from the attendees.

[FR Doc. 2011-8393 Filed 4-7-11; 8:45 am]

BILLING CODE 6717-01-P